OFFICE OF PERSONNEL MANAGEMENT

Nonforeign Area Cost-of-Living Allowances; Revised Living-Cost Indexes

AGENCY: Office of Personnel Management.

ACTION: Notice.

SUMMARY: This notice publishes revised living-cost indexes relating to the “2002 Nonforeign Area Cost-of-Living Allowance Survey Report: Caribbean and Washington, DC, Areas;” the “2003 Nonforeign Area Cost-of-Living Allowance Survey Report: Alaska and Washington, DC, Areas;” and the “2004 Nonforeign Area Cost-of-Living Allowance Survey Report: Pacific and Washington, DC, Areas.” The Federal Government uses the results of these surveys to set cost-of-living allowance (COLA) rates for General Schedule, U.S. Postal Service, and certain other Federal employees in Alaska, Hawaii, Guam and the Northern Mariana Islands, Puerto Rico, and the U.S. Virgin Islands. The Office of Personnel Management revised the COLA area living-cost indexes based on additional rental data analyses undertaken after the publication of these reports in response to comments we received.

FOR FURTHER INFORMATION CONTACT: Donald L. Paquin, (202) 606-2838; fax: (202) 606-4264; or e-mail: COLA@opm.gov.

SUPPLEMENTARY INFORMATION: Section 5941 of title 5, United States Code, authorizes Federal agencies to pay nonforeign area cost-of-living allowances (COLAs) to white-collar Federal and U.S. Postal Service employees stationed in Alaska, Hawaii, Guam and the Northern Mariana Islands, Puerto Rico, and the U.S. Virgin Islands. Executive Order 10000, as amended, delegates to the Office of Personnel Management (OPM) the authority to administer COLAs and prescribes certain operational features of the program. We conduct living-cost surveys in each allowance area and in the Washington, DC, area to determine whether, and to what degree, COLA area living costs are higher than those in the DC area. We set the COLA rate for each area based on the results of these surveys.

Section 591.229 of title 5, Code of Federal Regulations, requires OPM to publish COLA survey summary reports in the Federal Register. On February 9, 2004, OPM published the “2002 Nonforeign Area Cost-of-Living Allowance Survey Report: Caribbean and Washington, DC, Areas” at 69 FR 6020. On March 12, 2004, OPM published the “2003 Nonforeign Area Cost-of-Living Allowance Survey Report: Alaska and Washington, DC, Areas” at 69 FR 12002. On August 4, 2005, OPM published the “2004 Nonforeign Area Cost-of-Living Allowance Survey Report: Pacific and Washington, DC, Areas” at 70 FR 44989. OPM also published on August 4, 2005, a notice on revised shelter (rent) analyses at 70 FR 44978 and a proposed rule on COLA rate changes at 70 FR 44976.

As described in the reports, OPM conducts living-cost surveys in each of the COLA areas and in the Washington, DC, area and compares living-costs between the COLA areas and the DC area to set COLA rates. As also described in the reports, we survey rents in both the COLA areas and DC areas to compute the relative cost of shelter. OPM typically collects over 1,000 rental observations in each survey and also obtains information on over 80 characteristics of each of the rental observations.

Because housing can differ significantly within and between areas, OPM uses hedonic regressions (a type of multiple regression) to compare rents while holding quality and quantity constant. The rent comparisons are in the form of rent indexes, and the survey reports described the hedonic regression equations we use to compute rent indexes. The reports did not describe, however, how OPM selects the variables it uses in the hedonic regressions, and it is this process that OPM changed in response to comments it received.

To develop the process and its recent refinement, OPM consulted with the Survey Implementation Committee (SIC) and the Technical Advisory Committee (TAC). The SIC was established under the stipulation of settlement in Caraballo et al. v. United States, No. 1997-0027 (D.V.I), August 17, 2000, and is composed of representatives of the parties in Caraballo. The SIC in turn consults with the TAC, which was also established under the Caraballo settlement and is composed of three economists with expertise in living-cost comparisons. One of the issues OPM consulted with the SIC and TAC about is how to select defensible and objective variables for the rental hedonic regressions.

For the proposed rule, OPM used a multi-step process developed in consultation with the SIC and the TAC. The first step in the process was to identify “core” variables (e.g., number of bedrooms, number of bathrooms, and square footage). Core variables we use are consistently highly significant in our joint research, and we use them in all of our hedonic rental regression models.

The remaining variables are the “non-core” variables. In the process we used, statistically insignificant non-core variables were dropped from the hedonic regressions. OPM dropped non-core variables that were not statistically significant from the hedonic regressions. We did this in a series of steps, sequentially increasing the threshold for the significance tests because dropping variables could affect the significance of other variables. In the end, OPM had a hedonic regression model with a limited number of variables, each of which were highly significant (i.e., had a Type III probability of F less than or equal to 0.001).

In response to comments received on the proposed rule (and as described in the final rule accompanying this notice), OPM performed additional hedonic regressions (e.g., added listing source). Using the process described in the paragraph above. After comparing the results of the new regressions with those we proposed, the TAC recommended adding additional steps in the selection of variables for the hedonic regressions. These additional steps involved examining the effect of non-core variables on the standard errors of the survey area parameters.

As explained in the survey reports, the survey area parameter estimates, when converted from logarithms and after a slight correction for the use of logarithms, become the rent indexes. The standard errors of the survey area parameter estimates are a measure of the precision of the estimates, i.e., a measure of the precision of the rent index. The additional steps recommended by the TAC involved examining the effect of non-core variables on standard errors and deleting non-core variables that increased the standard errors. In other words, in these last steps, OPM removed variables whose inclusion would otherwise make the rent index less precise.

The additional steps resulted in fewer variables compared to the regressions OPM published in the previous notices. We also corrected errors in the 2002, 2003, and 2004 data bases. We uncovered some of the errors as a result of new automated quality assurance software we developed after we published these surveys. We uncovered other errors as we researched the comments on the proposed rule. We made the corrections to the data bases and used the new hedonic regression procedures recommended by the TAC. The new regressions for 2002, 2003, and 2004 are in Appendices 1, 2, and 3 respectively of this notice. Both the previously published and new rent indexes are shown in Table 1 below.

Table 1.—Previously Published and Final Rent Indexes
Year | Area | Previous rent index | New rent index
2002 | Puerto Rico | 70.89 | 63.49
2002 | St. Croix, USVI | 71.71 | 69.51
2002 | St. Thomas/St. John, USVI | 88.63 | 88.37
2003 | Anchorage, Alaska | 89.99 | 89.46
2003 | Fairbanks, Alaska | 79.96 | 79.98
2003 | Juneau, Alaska | 91.68 | 91.90
2004 | Honolulu, HI | 132.21 | 125.85
2004 | Hilo, HI | 81.19 | 74.97
2004 | Kailua Kona\Waimea Area, HI | 106.75 | 101.35
2004 | Kauai, HI | 117.61 | 108.15
2004 | Maui, HI | 127.62 | 118.00
2004 | Guam | 89.52 | 88.72
| Washington, DC, Area | *100.00 | *100.00
* By definition, the index of the base area is always 100.00. OPM surveys the Washington, DC, area every year.

Using the new rent indexes, OPM computed new final overall COLA indexes. Table 2 shows the new final indexes. Appendix 4 to this notice shows the derivation of the new Caribbean final indexes. Appendix 5 shows the derivation of the new Alaska final indexes. Appendix 6 shows the derivation of the new Pacific final indexes.

Table 2.—Previous Published and Final Living-Cost Indexes
Allowance area/category | Previously published living-cost indexes | Revised living-cost indexes
Puerto Rico | 105.10 | 103.04
U.S. Virgin Islands | 122.84 | 122.53
Anchorage, Alaska | 113.79 | 113.64
Fairbanks, Alaska | 115.61 | 115.62
Juneau, Alaska | 118.03 | 118.09
Rest of the State of Alaska | 136.00 | 135.84
Honolulu County, Hawaii | 127.78 | 125.80
Hawaii County, Hawaii | 119.11 | 117.25
Kauai County, Hawaii | 130.58 | 127.63
Maui County, Hawaii | 134.49 | 131.50
Guam and the Northern Mariana Islands | 127.65 | 127.40

These are the indexes that are used in the final rule to produce the final COLA rates for each of the COLA areas.

Office of Personnel Management.
Linda M. Springer,
Director.

Appendix 1—2002 Caribbean Survey; Hedonic Rental Data Equations and Results

libname opm ′p:\swsd\cola\survey2002\rental data\data files\′;

data temp;

set opm.QC_2002_Corrections_less_garages;

survey_area = ′XX′;

location = substr(compnumber,1,1);

if location = ′A′ then survey_area = ′SC′;

if location = ′B′ then survey_area = ′ST′;

if location = ′C′ then survey_area = ′PR′;

if location = ′D′ then survey_area = ′DC′;

*Drop 6 Georgetown zip code observations from data;

if int(compzip) = 20007 then delete;

IF COMPNUMBER = ′CHC08′ then delete;

*Q1 yrbuilt;

age = 2002-yrbuilt;

agesq = age**2;

if age<0 then delete;

if age = >200 then delete;

baths = fullbaths + halfbaths*.5 + threeqtrbaths*.75;

Neighbor_cond = 0;

if neighcond = ′A′ then Neighbor_cond = 1; * (Desirable);

DetTownRow = 0;

*if unittype in (′A′ ′D′) then DetTownRow = 1;

*Omitting the line above makes DetTownRow the base condition;

Apt_Other_Dup = 0;

if unittype in (′B′ ′C′ ′E′ ′H′) then Apt_Other_Dup = 1;

HighRise_Walkup = 0;

if unittype in (′F′ ′G′) then HighRise_Walkup = 1;

SqftXHighRise_Walkup = 0;

if unittype in (′F′,′G′) then SqftXHighRise_Walkup = sqfootage;

SqftXApt_Other_Dup = 0;

if unittype in (′B′ ′C′ ′E′ ′H′) then SqftXApt_Other_Dup = sqfootage;

SqftXDetTownRow = 0;

if unittype in (′A′,′D′) then SqftXDetTownRow = sqfootage;

hasmicrowave = 0;

if microwave = ′Y′ then hasmicrowave = 1;

hassecurity = 0;

if gated = ′Y′ or accessctl = ′Y′ or guards = ′Y′ or alarms = ′Y′ then hassecurity = 1;

hasgarage = 0;

if garage in (′A′ ′B′ ′C′) then hasgarage = 1;

ST_CROIX = 0;

if survey_area = ′SC′ then ST_CROIX = 1;

ST_THOMAS = 0;

if survey_area = ′ST′ then ST_THOMAS = 1;

Puerto_Rico = 0;

if survey_area = ′PR′ then Puerto_Rico = 1;

Wash_DC = 0;

*** if survey_area = ′WA′ then Wash_DC = 1—Omitting this makes DC the base area;

lrent = log(rent);

run;

PROC REG DATA = temp;

MODEL lrent = SqftXHighRise_Walkup SqftXApt_Other_Dup SqftXDetTownRow age agesq baths bedrooms Apt_Other_Dup HighRise_Walkup neighbor_cond hasmicrowave hassecurity ST_CROIX ST_THOMAS Puerto_Rico;

Title1 ′2002 CARIBBEAN RENTAL DATA′;

Title2 ′REVISED RENTAL ANALYSIS WITH CORRECTED DATA FEDERAL REGISTER MODEL′;

run;

2002 Caribbean Rental Data.—Revised Rental Analysis with Corrected Data Federal Register Model
[The REG Procedure Dependent Variable: lrent]
Number of Observations Read | 1591
Number of Observations Used | 1591

Analysis of variance: Source | Analysis of variance: DF | Analysis of variance: Sum of squares | Analysis of variance: Mean square | Analysis of variance: F Value | Analysis of variance: Pr > F
Model | 15 | 334.69800 | 22.31320 | 461.64 | <.0001
Error | 1575 | 76.12753 | 0.04833
Corrected Total | 1590 | 410.82553

Root MSE | 0.21985 | R-Square | 0.8147
Dependent Mean | 7.03485 | Adj R-Sq | 0.8129
Coeff Var | 3.12518

Variable | DF | Parameter estimate | Standard error | t Value | Pr > |t|
Intercept | 1 | 6.59523 | 0.03803 | 173.44 | <.0001
SqftXHighRise_Walkup | 1 | 0.00056133 | 0.00004296 | 13.07 | <.0001
SqftXApt_Other_Dup | 1 | 0.00071946 | 0.00004765 | 15.10 | <.0001
SqftXDetTownRow | 1 | 0.00024384 | 0.00001964 | 12.42 | <.0001
age | 1 | −0.00384 | 0.00069696 | −5.51 | <.0001
agesq | 1 | 0.00006036 | 0.00000759 | 7.95 | <.0001
baths | 1 | 0.10998 | 0.01193 | 9.22 | <.0001
BEDROOMS | 1 | 0.03593 | 0.01042 | 3.45 | 0.0006
Apt_Other_Dup | 1 | −0.60421 | 0.05066 | −11.93 | <.0001
HighRise_Walkup | 1 | −0.40358 | 0.04816 | −8.38 | <.0001
Neighbor_cond | 1 | 0.23154 | 0.01458 | 15.88 | <.0001
hasmicrowave | 1 | 0.12859 | 0.01456 | 8.83 | <.0001
hassecurity | 1 | 0.08879 | 0.01375 | 6.46 | <.0001
ST_CROIX | 1 | −0.37738 | 0.02727 | −13.84 | <.0001
ST_THOMAS | 1 | −0.13664 | 0.02605 | −5.25 | <.0001
Puerto_Rico | 1 | −0.46246 | 0.01636 | −28.26 | <.0001

Appendix 2—2003 Alaska Survey; Hedonic Rental Data Equations and Results

libname opm ‘P:\SWSD\COLA\Survey 2003\Rental Data\SAS Files & programs\SAS rental data sets’;

data temp; set OPM.qc_2003_corrections_less_garages;

survey_area = ‘XX’;

location = substr(compnumber,1,1);

if location = ‘A’ then survey_area = ‘JU’;

if location = ‘B’ then survey_area = ‘FB’;

if location = ‘C’ then survey_area = ‘AN’;

if location = ‘D’ then survey_area = ‘DC’;

*Q1 yrbuilt;

age = 2003-yrbuilt;

agesq = age**2;

baths = fullbaths+halfbaths*.5+threeqtrbaths*.75;

Neighbor_Cond = 0;

if neighcond = ‘A’ then Neighbor_Cond = 1;

hasgarage = 0;

if garage in (‘A’ ‘B’ ‘C’) then hasgarage = 1;

Dup_Othr = 0;

if unittype in (‘B’ ‘C’ ‘E’ ‘H’) then Dup_Othr = 1;

Wlkp_HiRz = 0;

if unittype in (‘F’ ‘G’) then Wlkp_HiRz = 1;

DetTownRow = 0;

*if unittype in (‘A’ ‘D’) then DetTownRow = 1;

*omitting the above line makes DetTownRow the base condition;

SqftXDup_Othr = 0;

if unittype in (‘B’ ‘C’ ‘E’ ‘H’) then SqftXDup_Othr = sqfootage;

SqftXWlkp_HiRz = 0;

if unittype in (‘F’ ‘G’) then SqftXWlkp_HiRz = sqfootage;

SqftXDetTownRow = 0;

if unittype in (‘A’ ‘D’) then SqftXDetTownRow = sqfootage;

hasclothesdryer = 0;

if cldryer = ‘Y’ then hasclothesdryer = 1;

hasfireplace = 0;

if fireplace = ‘Y’ then hasfireplace = 1;

Anchorage = 0;

if survey_area = ‘AN’ then Anchorage = 1;

Fairbanks = 0;

if survey_area = ‘FB’ then Fairbanks = 1;

Juneau = 0;

if survey_area = ‘JU’ then Juneau = 1;

Wash_DC = 0;

*** if survey_area = ‘WA’ then Wash_DC = 1—Omitting this makes DC the base area;

pctallbasq = pctallba_**2;

mediansq = medianincome**2;

lrent = log(rent);

run;

PROC REG DATA = temp;

MODEL lrent = Dup_Othr Wlkp_HiRz SqftXDup_Othr SqftXWlkp_HiRz SqftXDetTownRow age agesq baths bedrooms Neighbor_Cond hasgarage hasclothesdryer hasfireplace medianincome mediansq pctallbasq pctallba_ PctSchoolAge Anchorage Fairbanks Juneau;

TITLE ‘2003 Alaskan Rental Data’;

Title2‘Revised Rental Analyses with Corrected Data Federal Register Model’;

RUN;

2003 Alaskan Rental Data.—Revised Rental Analyses With Corrected Data Federal Register Model
[The REG Procedure Dependent Variable: lrent]
Number of Observations Read | 1668
Number of Observations Used | 1668

Analysis of Variance: Source | Analysis of Variance: DF | Analysis of Variance: Sum of squares | Analysis of Variance: Mean square | Analysis of Variance: F Value | Analysis of Variance: Pr > F
Model | 21 | 213.03988 | 10.14476 | 401.58 | <.0001
Error | 1646 | 41.58122 | 0.02526
Corrected Total | 1667 | 254.62110 |  |

Root MSE | 0.15894 | R-Square | 0.8367
Dependent Mean | 7.07009 | Adj R-Sq | 0.8346
Coeff Var | 2.24807 |  |

Variable | DF | Parameter estimate | Standard error | t Value | Pr > |t|
Intercept | 1 | 6.81582 | 0.04483 | 152.03 | <.0001
Dup_Othr | 1 | −0.09774 | 0.04706 | −2.08 | 0.0380
Wlkp_HiRz | 1 | −0.30134 | 0.03542 | −8.51 | <.0001
SqftXDup_Othr | 1 | 0.00012700 | 0.00003434 | 3.70 | 0.0002
SqftXWlkp_HiRz | 1 | 0.00027339 | 0.00003183 | 8.59 | <.0001
SqftXDetTownRow | 1 | 0.00006988 | 0.00001603 | 4.36 | <.0001
age | 1 | −0.00435 | 0.00068425 | −6.36 | <.0001
agesq | 1 | 0.00005845 | 0.00000820 | 7.12 | <.0001
baths | 1 | 0.06396 | 0.00916 | 6.98 | <.0001
BEDROOMS | 1 | 0.11464 | 0.00768 | 14.93 | <.0001
Neighbor_Cond | 1 | 0.28518 | 0.03963 | 7.20 | <.0001
hasgarage | 1 | 0.12415 | 0.01103 | 11.26 | <.0001
hasclothesdryer | 1 | 0.05988 | 0.00887 | 6.75 | <.0001
hasfireplace | 1 | 0.04929 | 0.01024 | 4.81 | <.0001
MedianIncome | 1 | −0.00000236 | 9.087546E-7 | −2.60 | 0.0094
mediansq | 1 | 2.23567E-11 | 5.52092E-12 | 4.05 | <.0001
pctallbasq | 1 | 0.12714 | 0.11737 | 1.08 | 0.2788
PCTAllBA_ | 1 | 0.26181 | 0.10972 | 2.39 | 0.0171
PctSchoolAge | 1 | −0.84487 | 0.11140 | −7.58 | <.0001
Anchorage | 1 | −0.11739 | 0.01201 | −9.77 | <.0001
Fairbanks | 1 | −0.23032 | 0.01376 | −16.73 | <.0001
Juneau | 1 | −0.09326 | 0.01763 | −5.29 | <.0001

Appendix 3.—2004 Pacific Survey; Hedonic Rental Data Equations and Results

libname opm ‘P:\SWSD\COLA\Survey 2004 Rental Data\Sas Files & Programs\SAS rental data sets\’; data temp;

set OPM.qc_2004_corrections_less_garages;

*following corrects for excise tax not included in Kona apt rents;

if compnumber in (‘CEE07’, ‘CED08’, ‘CAE01’, ‘CAF01’, ‘CEB19’, ‘CEC05’, ‘CEB16’, ‘CEA01’, ‘CEB13’, ‘CEF04’, ‘CDB06’, ‘CEF09’, ‘CEF19’, ‘CEA03’, ‘CEA06’, ‘CEE19’, ‘CEB33’, ‘CEC10’, ‘CEE20’, ‘CEB24’, ‘CEB37’, ‘CEB31’, ‘CEC11’, ‘CEE09’, ‘CEE21’, ‘CEF02’, ‘CEB09’, ‘CEB10’, ‘CEE05’, ‘CEE11’, ‘CEB08’, ‘CED01’, ‘CEE05’, ‘CEF12’, ‘CED03’, ‘CEB07’, ‘CEC01’, ‘CEB27’, ‘CEC03’) then rent = rent*1.0416;

survey_area = ‘XX’;

location = substr(compnumber,1,1);

if location = ‘A’ then survey_area = ‘GU’;

if location = ‘B’ then survey_area = ‘KA’;

if location = ‘C’ then survey_area = ‘KO’;

if location = ‘D’ then survey_area = ‘HI’;

if location = ‘E’ then survey_area = ‘MA’;

if location = ‘F’ then survey_area = ‘HO’;

if location = ‘G’ then survey_area = ‘DC’;

age = 2004-yrbuilt;

agesq = age*age;

baths = fullbaths+halfbaths*.5+threeqtrbaths*.75;

Extrnl_Cond = 0;

if extrcond = ‘A’ then Extrnl_Cond = 1;

Neighbor_Cond = 0;

if neighcond = ‘A’ then Neighbor_Cond = 1;

hasgarage = 0;

if garage in (‘A’ ‘B’ ‘C’) then hasgarage = 1;

exceptional_view = 0;

if excview = ‘Y’ then exceptional_view = 1;

hassecurity = 0;

if gated = ‘Y’ or accessctl = ‘Y’ or guards = ‘Y’ or alarms = ‘Y’ then hassecurity = 1;

Dup_Tri_InHome = 0;

if unittype in (‘B’,‘C’,‘E’) then Dup_Tri_InHome = 1;

Wlkp_Highrise = 0;

if unittype in (‘F’,‘G’) then Wlkp_Highrise = 1;

DetTownRow = 0;

*if unittype in (‘A’ ‘D’) then DetTownRow = 1;

*omitting the above makes it the base condition;

SqftXDup_Tri_InHome = 0;

if unittype in (‘B’ ‘C’ ‘E’) then SqftXDup_Tri_InHome = sqfootage;

SqftXWlkp_Highrise = 0;

if unittype in (‘F’ ‘G’) then SqftXWlkp_Highrise = sqfootage;

SqftXDetTownRow = 0;

if unittype in (‘A’ ‘D’) then SqftXDetTownRow = sqfootage;

hasclothesdryer = 0;

if cldryer = ‘Y’ then hasclothesdryer = 1;

hasrecreation = 0;

if pool = ‘Y’ or tenniscourt = ‘Y’ or clubhouse = ‘Y’ or exerciseroom = ‘Y’ or otherrecfac = ‘Y’ then hasrecreation = 1;

haselectric = 0;

if elec = ‘Y’ then haselectric = 1;

heatedgarage = 0;

if hgarage = ‘Y’ then heatedgarage = 1;

sqfootagesq = sqfootage**2;

pctallbasq = pctallba_**2;

Honolulu = 0;

if survey_area = ‘HO’ then Honolulu = 1;

Hilo = 0;

if survey_area = ‘HI’ then Hilo = 1;

Kona = 0;

if survey_area = ‘KO’ then Kona = 1;

Kauai = 0;

if survey_area = ‘KA’ then Kauai = 1;

Maui = 0;

if survey_area = ‘MA’ then Maui = 1;

Guam = 0;

if survey_area = ‘GU’ then Guam = 1;

Wash_DC = 0;

*** if survey_area = ‘WA’ then Wash_DC = 1 Omitting this makes DC the base area; lrent = log(rent);

run;

PROC REG DATA = temp;

MODEL lrent = SqftXDup_Tri_InHome SqftXWlkp_Highrise SqftXDetTownRow age agesq baths bedrooms haselectric heatedgarage Dup_Tri_InHome Wlkp_Highrise Extrnl_Cond Neighbor_Cond hasgarage exceptional_view hasclothesdryer hasrecreation PctallBA_ PctallBAsq PctSchoolAge Honolulu Hilo Kona Kauai Maui Guam;

TITLE1 ‘2004 PACIFIC RENTAL DATA’;

Title2 ‘RENTAL ANALYSIS FEDERAL REGISTER MODEL’;

RUN;

2004 Pacific Rental Data.—Rental Analysis Federal Register Model
[The REG Procedure Dependent Variable: lrent]
Number of Observations Read | 2713
Number of Observations Used | 2713

Analysis of Variance: Source | Analysis of Variance: DF | Analysis of Variance: Sum of squares | Analysis of Variance: Mean square | Analysis of Variance: F Value | Analysis of Variance: Pr > F
Model | 26 | 379.89750 | 14.61144 | 394.69 | <.0001
Error | 2686 | 99.43664
Corrected Total | 2712 | 479.33414

Root MSE | 0.19241 | R-Square | 0.7926
Dependent Mean | 7.18883 | Adj R-Sq | 0.7905
Coeff Var | 2.67647 |  |

Variable | DF | Parameter estimate | Standard error | t Value | Pr > t
Intercept | 1 | 6.71644 | 0.03879 | 173.14 | <.0001
SqftXDup_Tri_InHome | 1 | 0.00027535 | 0.00003241 | 8.50 | <.0001
SqftXWlkp_Highrise | 1 | 0.00040841 | 0.00002703 | 15.11 | <.0001
SqftXDetTownRow | 1 | 0.00011596 | 0.00001498 | 7.74 | <.0001
age | 1 | −0.00247 | 0.00054994 | −4.50 | <.0001
agesq | 1 | 0.00003635 | 0.00000640 | 5.68 | <.0001
baths | 1 | 0.08769 | 0.00831 | 10.55 | <.0001
BEDROOMS | 1 | 0.10540 | 0.00744 | 14.16 | <.0001
haselectric | 1 | 0.08951 | 0.01199 | 7.46 | <.0001
heatedgarage | 1 | 0.20487 | 0.05953 | 3.44 | 0.0006
Dup_Tri_InHome | 1 | −0.27216 | 0.03742 | −7.27 | <.0001
Wlkp_Highrise | 1 | −0.46694 | 0.02793 | −16.72 | <.0001
Extrnl_Cond | 1 | 0.09677 | 0.01459 | 6.63 | <.0001
Neighbor_Cond | 1 | 0.19095 | 0.01675 | 11.40 | <.0001
hasgarage | 1 | 0.06508 | 0.01109 | 5.87 | <.0001
exceptional_view | 1 | 0.08748 | 0.01923 | 4.55 | <.0001
hasclothesdryer | 1 | 0.06394 | 0.00838 | 7.63 | <.0001
hasrecreation | 1 | 0.08545 | 0.01041 | 8.21 | <.0001
PCTAllBA_ | 1 | 0.00112 | 0.09969 | 0.01 | 0.9910
pctallbasq | 1 | 0.55655 | 0.10981 | 5.07 | <.0001
PctSchoolAge | 1 | −0.79399 | 0.09062 | −8.76 | <.0001
Honolulu | 1 | 0.22418 | 0.01153 | 19.44 | <.0001
Hilo | 1 | −0.29661 | 0.01715 | −17.29 | <.0001
Kona | 1 | 0.00390 | 0.01905 | 0.20 | 0.8379
Kauai | 1 | 0.06919 | 0.01828 | 3.79 | 0.0002
Maui | 1 | 0.15740 | 0.01628 | 9.67 | <.0001
Guam | 1 | −0.12739 | 0.01530 | −8.33 | <.0001

Appendix 4.—2002 Final Living-Cost Results for the Caribbean COLA Areas
Major expenditure group (MEG) | Primary expenditure group (PEG) | MEG weight (percent) | PEG weight (percent) | PEG index | MEG index
Puerto Rico
1. Food |  | 13.16 |  |  | 101.85
| Cereals and bakery products | 0.98 | 7.45 | 105.91 |
| Meats, poultry, fish, and eggs | 1.47 | 11.16 | 99.40 |
| Dairy products | 0.65 | 4.94 | 124.86 |
| Fruits and vegetables | 0.73 | 5.56 | 107.05 |
| Processed foods | 1.54 | 11.68 | 106.42 |
| Other food at home | 0.42 | 3.16 | 92.62 |
| Nonalcoholic beverages | 0.49 | 3.74 | 133.21 |
| Food away from home | 5.93 | 45.04 | 91.91 |
| Alcoholic beverages | 0.96 | 7.28 | 123.96 |
| PEG Total |  | 100.00 |  |
2. Shelter and Utilities |  | 31.30 |  |  | 78.63
| Shelter | 28.07 | 89.67 | 64.56 |
| Energy utilities | 2.65 | 8.46 | 236.07 |
| Water and other public services | 0.59 | 1.87 | 41.54 |
| PEG Total |  | 100.00 |  |
3. Household Furnishings and Supplies |  | 6.06 |  |  | 98.84
| Household operations | 1.36 | 22.51 | 64.95 |
| Housekeeping supplies | 1.06 | 17.53 | 113.20 |
| Textiles and area rugs | 0.25 | 4.16 | 93.40 |
| Furniture | 1.05 | 17.39 | 95.70 |
| Major appliances | 0.37 | 6.03 | 116.32 |
| Small appliances, misc. housewares | 0.21 | 3.46 | 108.32 |
| Miscellaneous household equipment | 1.75 | 28.91 | 114.40 |
| PEG Total |  | 100.00 |  |
4. Apparel and services |  | 4.00 |  |  | 112.80
| Men and boys | 0.75 | 18.69 | 107.05 |
| Women and girls | 1.67 | 41.66 | 114.32 |
| Children under 2 | 0.18 | 4.55 | 103.86 |
| Footwear | 0.70 | 17.48 | 88.96 |
| Other apparel products and services | 0.71 | 17.63 | 141.24 |
| PEG Total |  | 100.00 |  |
5. Transportation |  | 16.93 |  |  | 107.51
| Motor vehicle costs | 9.09 | 53.67 | 109.17 |
| Gasoline and motor oil | 2.71 | 16.02 | 84.24 |
| Maintenance and repairs | 1.81 | 10.72 | 94.31 |
| Vehicle insurance | 1.73 | 10.24 | 122.13 |
| Public transportation | 1.58 | 9.35 | 136.92 |
| PEG Total |  | 100.00 |  |
6. Medical |  | 4.44 |  |  | 73.31
| Health insurance | 2.08 | 46.97 | 59.73 |
| Medical services | 1.43 | 32.31 | 72.76 |
| Drugs and medical supplies | 0.92 | 20.72 | 104.93 |
| PEG Total |  | 100.00 |  |
7. Recreation |  | 6.23 |  |  | 102.99
| Fees and admissions | 1.46 | 23.38 | 95.96 |
| Television, radios, sound equipment | 0.77 | 12.38 | 115.85 |
| Pets, toys, and playground equipment | 1.15 | 18.48 | 98.43 |
| Other entertainment supplies, etc. | 0.97 | 15.57 | 106.71 |
| Personal care products | 0.69 | 11.10 | 98.89 |
| Personal care services | 0.70 | 11.29 | 105.17 |
| Reading | 0.49 | 7.80 | 109.76 |
| PEG Total |  | 100.00 |  |
8. Education and Communication |  | 4.09 |  |  | 132.89
| Education | 0.21 | 5.06 | 216.35 |
| Communications | 3.24 | 79.32 | 132.97 |
| Computers and computer services | 0.64 | 15.62 | 105.41 |
| PEG Total |  | 100.00 |  |
9. Miscellaneous |  | 13.79 |  |  | 103.10
| Tobacco products, etc. | 0.48 | 3.51 | 87.91 |
| Miscellaneous | 2.09 | 15.12 | 123.28 |
| Personal insurance and pensions | 11.22 | 81.37 | 100.00 |
| PEG Total |  | 100.00 |  |
Overall Price Index | MEG Total | 100.00 |  |  | 96.04
Plus Adjustment Factor |  |  |  |  | 7.00
Index Plus Adjustment Factor |  |  |  |  | 103.04
St. Croix, U.S. Virgin Islands
1. Food |  | 13.16 |  |  | 116.05
| Cereals and bakery products | 0.98 | 7.45 | 129.89 |
| Meats, poultry, fish, and eggs | 1.47 | 11.16 | 129.25 |
| Dairy products | 0.65 | 4.94 | 155.69 |
| Fruits and vegetables | 0.73 | 5.56 | 108.80 |
| Processed foods | 1.54 | 11.68 | 128.02 |
| Other food at home | 0.42 | 3.16 | 108.01 |
| Nonalcoholic beverages | 0.49 | 3.74 | 132.85 |
| Food away from home | 5.93 | 45.04 | 105.82 |
| Alcoholic beverages | 0.96 | 7.28 | 99.25 |
| PEG Total |  | 100.00 |  |
2. Shelter and Utilities |  | 31.30 |  |  | 98.79
| Shelter | 28.07 | 89.67 | 72.97 |
| Energy utilities | 2.65 | 8.46 | 343.31 |
| Water and other public services | 0.59 | 1.87 | 230.60 |
| PEG Total |  | 100.00 |  |
3. Household Furnishings and Supplies |  | 6.06 |  |  | 126.20
| Household operations | 1.36 | 22.51 | 58.68 |
| Housekeeping supplies | 1.06 | 17.53 | 138.03 |
| Textiles and area rugs | 0.25 | 4.16 | 98.61 |
| Furniture | 1.05 | 17.39 | 141.31 |
| Major appliances | 0.37 | 6.03 | 121.13 |
| Small appliances, misc. housewares | 0.21 | 3.46 | 101.87 |
| Miscellaneous household equipment | 1.75 | 28.91 | 169.19 |
| PEG Total |  | 100.00 |  |
4. Apparel and Services |  | 4.00 |  |  | 102.52
| Men and boys | 0.75 | 18.69 | 115.94 |
| Women and girls | 1.67 | 41.66 | 98.51 |
| Children under 2 | 0.18 | 4.55 | 83.57 |
| Footwear | 0.70 | 17.48 | 97.20 |
| Other apparel products and services | 0.71 | 17.63 | 107.95 |
| PEG Total |  | 100.00 |  |
5. Transportation |  | 16.93 |  |  | 111.02
| Motor vehicle costs | 9.09 | 53.67 | 112.02 |
| Gasoline and motor oil | 2.71 | 16.02 | 73.46 |
| Maintenance and repairs | 1.81 | 10.72 | 88.94 |
| Vehicle insurance | 1.73 | 10.24 | 119.53 |
| Public transportation | 1.58 | 9.35 | 185.59 |
| PEG Total |  | 100.00 |  |
6. Medical |  | 4.44 |  |  | 102.17
| Health insurance | 2.08 | 46.97 | 110.99 |
| Medical services | 1.43 | 32.31 | 83.05 |
| Drugs and medical supplies | 0.92 | 20.72 | 111.99 |
| PEG Total |  | 100.00 |  |
7. Recreation |  | 6.23 |  |  | 107.72
| Fees and admissions | 1.46 | 23.38 | 85.81 |
| Television, radios, sound equipment | 0.77 | 12.38 | 94.05 |
| Pets, toys, and playground equipment | 1.15 | 18.48 | 124.46 |
| Other entertainment supplies, etc. | 0.97 | 15.57 | 118.42 |
| Personal care products | 0.69 | 11.10 | 120.92 |
| Personal care services | 0.70 | 11.29 | 107.77 |
| Reading | 0.49 | 7.80 | 115.28 |
| PEG Total |  | 100.00 |  |
8. Education and Communication |  | 4.09 |  |  | 173.59
| Education | 0.21 | 5.06 | 268.97 |
| Communications | 3.24 | 79.32 | 180.93 |
| Computers and computer services | 0.64 | 15.62 | 105.41 |
| PEG Total |  | 100.00 |  |
9. Miscellaneous |  | 13.79 |  |  | 105.08
| Tobacco products, etc. | 0.48 | 3.51 | 52.54 |
| Miscellaneous | 2.09 | 15.12 | 144.64 |
| Personal insurance and pensions | 11.22 | 81.37 | 100.00 |
| PEG Total |  | 100.00 |  |
St. Thomas, U.S. Virgin Islands
1. Food |  | 13.16 |  |  | 118.86
| Cereals and bakery products | 0.98 | 7.45 | 135.94 |
| Meats, poultry, fish, and eggs | 1.47 | 11.16 | 133.18 |
| Dairy products | 0.65 | 4.94 | 161.42 |
| Fruits and vegetables | 0.73 | 5.56 | 120.34 |
| Processed foods | 1.54 | 11.68 | 139.00 |
| Other food at home | 0.42 | 3.16 | 115.51 |
| Nonalcoholic beverages | 0.49 | 3.74 | 139.29 |
| Food away from home | 5.93 | 45.04 | 104.61 |
| Alcoholic beverages | 0.96 | 7.28 | 96.20 |
| PEG Total |  | 100.00 |  |
2. Shelter and Utilities |  | 31.30 |  |  | 116.00
| Shelter | 28.07 | 89.67 | 92.16 |
| Energy utilities | 2.65 | 8.46 | 343.31 |
| Water and other public services | 0.59 | 1.87 | 230.60 |
| PEG Total |  | 100.00 |  |
3. Household Furnishings and Supplies |  | 6.06 |  |  | 126.12
| Household operations | 1.36 | 22.51 | 63.82 |
| Housekeeping supplies | 1.06 | 17.53 | 137.67 |
| Textiles and area rugs | 0.25 | 4.16 | 117.68 |
| Furniture | 1.05 | 17.39 | 141.31 |
| Major appliances | 0.37 | 6.03 | 121.04 |
| Small appliances, misc. housewares | 0.21 | 3.46 | 102.41 |
| Miscellaneous household equipment | 1.75 | 28.91 | 163.62 |
| PEG Total |  | 100.00 |  |
4. Apparel and Services |  | 4.00 |  |  | 101.14
| Men and boys | 0.75 | 18.69 | 102.33 |
| Women and girls | 1.67 | 41.66 | 97.41 |
| Children under 2 | 0.18 | 4.55 | 83.57 |
| Footwear | 0.70 | 17.48 | 99.03 |
| Other apparel products and services | 0.71 | 17.63 | 115.33 |
| PEG Total |  | 100.00 |  |
5. Transportation |  | 16.93 |  |  | 119.49
| Motor vehicle costs | 9.09 | 53.67 | 111.91 |
| Gasoline and motor oil | 2.71 | 16.02 | 122.52 |
| Maintenance and repairs | 1.81 | 10.72 | 80.37 |
| Vehicle insurance | 1.73 | 10.24 | 119.53 |
| Public transportation | 1.58 | 9.35 | 202.62 |
| PEG Total |  | 100.00 |  |
6. Medical |  | 4.44 |  |  | 114.18
| Health insurance | 2.08 | 46.97 | 110.99 |
| Medical services | 1.43 | 32.31 | 121.45 |
| Drugs and medical supplies | 0.92 | 20.72 | 110.08 |
| PEG Total |  | 100.00 |  |
7. Recreation |  | 6.23 |  |  | 106.38
| Fees and admissions | 1.46 | 23.38 | 58.55 |
| Television, radios, sound equipment | 0.77 | 12.38 | 104.26 |
| Pets, toys and playground equipment | 1.15 | 18.48 | 132.35 |
| Other entertainment supplies, etc. | 0.97 | 15.57 | 130.73
| Personal care products | 0.69 | 11.10 | 113.14 |
| Personal care services | 0.70 | 11.29 | 116.88 |
| Reading | 0.49 | 7.80 | 118.17 |
| PEG Total |  | 100.00 |  |
8. Education and Communication |  | 4.09 |  |  | 168.47
| Education | 0.21 | 5.06 | 188.50 |
| Communications | 3.24 | 79.32 | 179.61 |
| Computers and computer services | 0.64 | 15.62 | 105.41 |
| PEG Total |  | 100.00 |  |
9. Miscellaneous |  | 13.79 |  |  | 102.87
| Tobacco products, etc. | 0.48 | 3.51 | 60.63 |
| Miscellaneous | 2.09 | 15.12 | 128.10 |
| Personal insurance and pensions | 11.22 | 81.37 | 100.00 |
| PEG Total |  | 100.00 |  |

Appendix 4.—2002 Final Living-Cost Results for the Caribbean COLA Areas
Major expenditure group (MEG) | Primary expenditure group (PEG) | St. Croix index (percent) | St. Thomas/ St. John indexes (percent) | USVI wtd index
U.S. Virgin Islands
Employment Weights |  | 44.0 | 56.0 |
1. Food |  | 116.05 | 118.86 | 117.62
| Cereals and bakery products | 129.89 | 135.94 | 133.28
| Meats, poultry, fish, and eggs | 129.25 | 133.18 | 131.45
| Dairy products | 155.69 | 161.42 | 158.90
| Fruits and vegetables | 108.80 | 120.34 | 115.26
| Processed foods | 128.02 | 139.00 | 134.17
| Other food at home | 108.01 | 115.51 | 112.21
| Nonalcoholic beverages | 132.85 | 139.29 | 136.45
| Food away from home | 105.82 | 104.61 | 105.14
| Alcoholic beverages | 99.25 | 96.20 | 97.54
2. Shelter and Utilities |  | 98.79 | 116.00 | 108.43
| Shelter | 72.97 | 92.16 | 83.72
| Energy utilities | 343.31 | 343.31 | 343.31
| Water and other public services | 230.60 | 230.60 | 230.60
3. Household Furnishings and Supplies |  | 126.20 | 126.12 | 126.15
| Household operations | 58.68 | 63.82 | 61.56
| Housekeeping supplies | 138.03 | 137.67 | 137.83
| Textiles and area rugs | 98.61 | 117.63 | 109.26
| Furniture | 141.31 | 141.31 | 141.31
| Major appliances | 127.13 | 127.04 | 123.72
| Small appliances, misc. housewares | 101.87 | 102.41 | 102.17
| Miscellaneous household equipment | 169.19 | 163.62 | 166.07
4. Apparel and Services |  | 102.52 | 101.14 | 101.75
| Men and boys | 115.94 | 102.33 | 108.32
| Women and girls | 98.51 | 97.41 | 97.89
| Children under 2 | 83.57 | 83.57 | 83.57
| Footwear | 97.20 | 99.03 | 98.23
| Other apparel products and services | 107.95 | 115.33 | 112.08
5. Transportation |  | 111.02 | 119.49 | 115.76
| Motor vehicle costs | 112.02 | 111.91 | 111.96
| Gasoline and motor oil | 73.46 | 122.52 | 100.93
| Maintenance and repairs | 88.94 | 80.37 | 84.14
| Vehicle insurance | 119.53 | 119.53 | 119.53
| Public transportation | 185.59 | 202.62 | 195.13
6. Medical |  | 102.17 | 114.18 | 108.90
| Health insurance | 110.99 | 110.99 | 110.99
| Medical services | 83.05 | 121.45 | 104.56
| Drugs and medical supplies | 111.99 | 110.08 | 110.92
7. Recreation |  | 107.72 | 106.38 | 106.97
| Fees and admissions | 85.81 | 58.55 | 70.55
| Television, radios, sound equipment | 94.05 | 104.26 | 99.77
| Pets, toys & playground equipment | 124.46 | 132.35 | 128.88
| Other entertainment supplies, etc. | 118.42 | 130.73 | 125.31
| Personal care products | 120.92 | 113.14 | 116.56
| Personal care services | 107.77 | 116.88 | 112.87
| Reading | 115.28 | 118.17 | 116.90
8. Education and Communication |  | 173.59 | 168.47 | 170.72
| Education | 268.97 | 188.50 | 223.91
| Communications | 180.93 | 179.61 | 180.19
| Computers and computer services | 105.41 | 105.41 | 105.41
9. Miscellaneous |  | 105.08 | 102.87 | 103.84
| Tobacco products, etc. | 52.54 | 60.63 | 57.07
| Miscellaneous | 144.64 | 128.10 | 135.38
| Personal insurance and pensions | 100.00 | 100.00 | 100.00
Overall Price Index |  |  |  | 113.53
Plus Adjustment Factor |  |  |  | 9.00
Preliminary COLA Rate |  |  |  | 122.53

Appendix 5.—2003 Final Living-Cost Results for the Alaska COLA Areas
Major expenditure group (MEG) | Primary expenditure group (PEG) | MEG weight (percent) | PEG weight (percent) | PEG index | MEG index
Anchorage, Alaska
1. Food |  | 12.30 |  |  | 114.58
| Cereals and bakery products | 0.93 | 7.60 | 117.91 |
| Meats, poultry, fish, and eggs | 1.40 | 11.40 | 108.37 |
| Dairy products | 0.64 | 5.24 | 127.58 |
| Fruits and vegetables | 0.71 | 5.79 | 169.90 |
| Processed foods | 1.48 | 12.04 | 113.79 |
| Other food at home | 0.37 | 3.05 | 115.41 |
| Nonalcoholic beverages | 0.47 | 3.85 | 142.08 |
| Food away from home | 5.41 | 44.02 | 104.21 |
| Alcoholic beverages | 0.86 | 7.01 | 116.68 |
| PEG Total |  | 100.00 |  |
2. Shelter and Utilities |  | 33.18 |  |  | 101.96
| Shelter | 29.44 | 88.74 | 90.13 |
| Energy utilities | 3.05 | 9.20 | 212.43 |
| Water and other public services | 0.68 | 2.06 | 118.15 |
| PEG Total |  | 100.00 |  |
3. Household Furnishings and Supplies |  | 6.07 |  |  | 105.32
| Household operations | 1.53 | 25.20 | 102.92 |
| Housekeeping supplies | 1.05 | 17.31 | 103.97 |
| Textiles and area rugs | 0.29 | 4.76 | 102.25 |
| Furniture | 1.15 | 18.94 | 104.57 |
| Major appliances | 0.38 | 6.24 | 110.38 |
| Small appliances, misc. housewares | 0.20 | 3.24 | 114.16 |
| Misc. household equipment | 1.47 | 24.30 | 107.47 |
| PEG Total |  | 100.00 |  |
4. Apparel and Services |  | 4.01 |  |  | 109.63
| Men and boys | 0.90 | 22.43 | 118.23 |
| Women and girls | 1.58 | 39.55 | 112.12 |
| Children under 2 | 0.18 | 4.60 | 90.70 |
| Footwear | 0.67 | 16.75 | 98.83 |
| Other apparel products and services | 0.67 | 16.68 | 108.24 |
| PEG Total |  | 100.00 |  |
5. Transportation |  | 16.35 |  |  | 112.30
| Motor vehicle costs | 8.57 | 52.43 | 102.17 |
| Gasoline and motor oil | 2.87 | 17.58 | 107.36 |
| Maintenance and repairs | 1.69 | 10.32 | 101.97 |
| Vehicle insurance | 1.79 | 10.92 | 135.96 |
| Public transportation | 1.43 | 8.76 | 165.59 |
| PEG Total |  | 100.00 |  |
6. Medical |  | 4.75 |  |  | 111.51
| Health insurance | 2.28 | 47.95 | 113.65 |
| Medical services | 1.55 | 32.53 | 118.98 |
| Drugs and medical supplies | 0.93 | 19.52 | 93.78 |
| PEG Total |  | 100.00 |  |
7. Recreation |  | 7.02 |  |  | 97.64
| Fees and admissions | 1.46 | 20.77 | 92.96 |
| Television, radios, sound equipment | 0.73 | 10.36 | 100.15 |
| Pets, toys, and playground equipment | 1.04 | 14.84 | 104.07 |
| Other entertainment supplies, etc. | 2.02 | 28.81 | 101.48 |
| Personal care products | 0.82 | 11.62 | 86.00 |
| Personal care services | 0.56 | 7.90 | 88.08 |
| Reading | 0.40 | 5.70 | 110.95 |
| PEG Total |  | 100.00 |  |
8. Education and Communication |  | 4.05 |  |  | 100.37
| Education | 0.18 | 4.42 | 29.67 |
| Communications | 3.37 | 83.30 | 104.60 |
| Computers and computer services | 0.50 | 12.29 | 97.09 |
| PEG Total |  | 100.00 |  |
9. Miscellaneous |  | 12.28 |  |  | 108.78
| Tobacco products, etc. | 0.46 | 3.75 | 108.17 |
| Miscellaneous | 1.83 | 14.89 | 156.88 |
| Personal insurance and pensions | 9.99 | 81.35 | 100.00 |
| PEG Total |  | 100.00 |  |
Overall Price Index | MEG Total | 100.00 |  |  | 106.64
Plus Adjustment Factor |  |  |  |  | 7.00
Index Plus Adjustment Factor |  |  |  |  | 113.64
Fairbanks, Alaska
1. Food |  | 12.30 |  |  | 116.25
| Cereals and bakery products | 0.93 | 7.60 | 124.89 |
| Meats, poultry, fish, and eggs | 1.40 | 11.40 | 111.48 |
| Dairy products | 0.64 | 5.24 | 115.91 |
| Fruits and vegetables | 0.71 | 5.79 | 169.40 |
| Processed foods | 1.48 | 12.04 | 120.63 |
| Other food at home | 0.37 | 3.05 | 114.36 |
| Nonalcoholic beverages | 0.47 | 3.85 | 152.88 |
| Food away from home | 5.41 | 44.02 | 103.08 |
| Alcoholic beverages | 0.86 | 7.01 | 126.87 |
| PEG Total |  | 100.00 |  |
2. Shelter and Utilities |  | 33.18 |  |  | 99.93
| Shelter | 29.44 | 88.74 | 80.89 |
| Energy utilities | 3.05 | 9.20 | 270.97 |
| Water and other public services | 0.68 | 2.06 | 155.96 |
| PEG Total |  | 100.00 |  |
3. Household Furnishings and Supplies |  | 6.07 |  |  | 109.56
| Household operations | 1.53 | 25.20 | 99.74 |
| Housekeeping supplies | 1.05 | 17.31 | 115.45 |
| Textiles and area rugs | 0.29 | 4.76 | 103.65 |
| Furniture | 1.15 | 18.94 | 104.57 |
| Major appliances | 0.38 | 6.24 | 126.17 |
| Small appliances, misc. housewares | 0.20 | 3.24 | 125.61 |
| Misc. household equipment | 1.47 | 24.30 | 114.19 |
| PEG Total |  | 100.00 |  |
4. Apparel and Services |  | 4.01 |  |  | 106.64
| Men and boys | 0.90 | 22.43 | 103.68 |
| Women and girls | 1.58 | 39.55 | 104.53 |
| Children under 2 | 0.18 | 4.60 | 89.89 |
| Footwear | 0.67 | 16.75 | 93.82 |
| Other apparel products and services | 0.67 | 16.68 | 133.11 |
| PEG Total |  | 100.00 |  |
5. Transportation |  | 16.35 |  |  | 112.50
| Motor vehicle costs | 8.57 | 52.43 | 101.33 |
| Gasoline and motor oil | 2.87 | 17.58 | 106.31 |
| Maintenance and repairs | 1.69 | 10.32 | 95.57 |
| Vehicle insurance | 1.79 | 10.92 | 130.80 |
| Public transportation | 1.43 | 8.76 | 188.94 |
| PEG Total |  | 100.00 |  |
6. Medical |  | 4.75 |  |  | 112.34
| Health insurance | 2.28 | 47.95 | 111.83 |
| Medical services | 1.55 | 32.53 | 123.13 |
| Drugs and medical supplies | 0.93 | 19.52 | 95.63 |
| PEG Total |  | 100.00 |  |
7. Recreation |  | 7.02 |  |  | 97.66
| Fees and admissions | 1.46 | 20.77 | 92.48 |
| Television, radios, sound equipment | 0.73 | 10.36 | 99.46 |
| Pets, toys, and playground equipment | 1.04 | 14.84 | 108.08 |
| Other entertainment supplies, etc. | 2.02 | 28.81 | 106.80 |
| Personal care products | 0.82 | 11.62 | 83.46 |
| Personal care services | 0.56 | 7.90 | 60.47 |
| Reading | 0.40 | 5.70 | 120.53 |
| PEG Total |  | 100.00 |  |
8. Education and Communication |  | 4.05 |  |  | 101.90
| Education | 0.18 | 4.42 | 13.84 |
| Communications | 3.37 | 83.30 | 107.28 |
| Computers and computer services | 0.50 | 12.29 | 97.09 |
| PEG Total |  | 100.00 |  |
9. Miscellaneous |  | 12.28 |  |  | 110.23
| Tobacco products, etc. | 0.46 | 3.75 | 107.12 |
| Miscellaneous | 1.83 | 14.89 | 166.87 |
| Personal insurance and pensions | 9.99 | 81.35 | 100.00 |
| PEG Total |  | 100.00 |  |
Overall Price Index | MEG Total | 100.00 |  |  | 106.62
Plus Adjustment Factor |  |  |  |  | 9.00
Index Plus Adjustment Factor |  |  |  |  | 115.62
Juneau, Alaska
1. Food |  | 12.30 |  |  | 121.13
| Cereals and bakery products | 0.93 | 7.60 | 122.40 |
| Meats, poultry, fish, and eggs | 1.40 | 11.40 | 116.44 |
| Dairy products | 0.64 | 5.24 | 129.04 |
| Fruits and vegetables | 0.71 | 5.79 | 168.34 |
| Processed foods | 1.48 | 12.04 | 119.04 |
| Other food at home | 0.37 | 3.05 | 118.10 |
| Nonalcoholic beverages | 0.47 | 3.85 | 171.62 |
| Food away from home | 5.41 | 44.02 | 112.67 |
| Alcoholic beverages | 0.86 | 7.01 | 112.77 |
| PEG Total |  | 100.00 |  |
2. Shelter and Utilities |  | 33.18 |  |  | 105.97
| Shelter | 29.44 | 88.74 | 92.28 |
| Energy utilities | 3.05 | 9.20 | 236.45 |
| Water and other public services | 0.68 | 2.06 | 112.61 |
| PEG Total |  | 100.00 |  |
3. Household Furnishings and Supplies |  | 6.07 |  |  | 111.16
| Household operations | 1.53 | 25.20 | 104.07 |
| Housekeeping supplies | 1.05 | 17.31 | 118.21 |
| Textiles and area rugs | 0.29 | 4.76 | 108.66 |
| Furniture | 1.15 | 18.94 | 108.67 |
| Major appliances | 0.38 | 6.24 | 121.35 |
| Small appliances, misc. housewares | 0.20 | 3.24 | 104.19 |
| Misc. household equipment | 1.47 | 24.30 | 114.25 |
| PEG Total |  | 100.00 |  |
4. Apparel and Services |  | 4.01 |  |  | 105.13
| Men and boys | 0.90 | 22.43 | 111.43 |
| Women and girls | 1.58 | 39.55 | 100.69 |
| Children under 2 | 0.18 | 4.60 | 88.83 |
| Footwear | 0.67 | 16.75 | 106.39 |
| Other apparel products and services | 0.67 | 16.68 | 110.38 |
| PEG Total |  | 100.00 |  |
5. Transportation |  | 16.35 |  |  | 107.08
| Motor vehicle costs | 8.57 | 52.43 | 98.27 |
| Gasoline and motor oil | 2.87 | 17.58 | 115.15 |
| Maintenance and repairs | 1.69 | 10.32 | 99.87 |
| Vehicle insurance | 1.79 | 10.92 | 92.71 |
| Public transportation | 1.43 | 8.76 | 170.09 |
| PEG Total |  | 100.00 |  |
6. Medical |  | 4.75 |  |  | 113.18
| Health insurance | 2.28 | 47.95 | 111.91 |
| Medical services | 1.55 | 32.53 | 123.47 |
| Drugs and medical supplies | 0.93 | 19.52 | 99.14 |
| PEG Total |  | 100.00 |  |
7. Recreation |  | 7.02 |  |  | 109.42
| Fees and admissions | 1.46 | 20.77 | 99.88 |
| Television, radios, sound equipment | 0.73 | 10.36 | 105.97 |
| Pets, toys, and playground equipment | 1.04 | 14.84 | 107.48 |
| Other entertainment supplies, etc. | 2.02 | 28.81 | 112.91 |
| Personal care products | 0.82 | 11.62 | 111.96 |
| Personal care services | 0.56 | 7.90 | 83.02 |
| Reading | 0.40 | 5.70 | 169.37 |
| PEG Total |  | 100.00 |  |
8. Education and Communication |  | 4.05 | 5 |  | 103.58
| Education | 0.18 | 4.42 | 22.50 |
| Communications | 3.37 | 83.30 | 108.24 |
| Computers and computer services | 0.50 | 12.29 | 101.15 |
| PEG Total |  | 100.00 |  |
9. Miscellaneous |  | 12.28 |  |  | 108.45
| Tobacco products, etc. | 0.46 | 3.75 | 119.60 |
| Miscellaneous | 1.83 | 14.89 | 151.80 |
| Personal insurance and pensions | 9.99 | 81.35 | 100.00 |
| PEG Total |  | 100.00 |  |
Overall Price Index | MEG Total | 100.00 |  |  | 109.09
Plus Adjustment Factor |  |  |  |  | 9.00
Index Plus Adjustment Factor |  |  |  |  | 118.09

Anchorage results 1/10/06: Major expenditure group (MEG) | Anchorage results 1/10/06: Primary expenditure group (PEG) | Relative to: MEG weight (percent) | Relative to: PEG weight (percent) | Relative to: DC PEG index | Relative to: MEG index | Kodiak Relative to: Anchorage: PEG index* | Kodiak Relative to: Anchorage: MEG index* | Kodiak Relative to: DC: MEG index
Rest of the State Of Alaska
1. Food |  | 12.26 |  |  | 114.58 |  | 145.69 | 166.94
| Cereals and bakery products | 0.93 | 7.60 | 117.91 |  |  |  |
| Meats, poultry, fish, and eggs | 1.40 | 11.40 | 108.37 |  |  |  |
| Dairy products | 0.64 | 5.24 | 127.58 |  |  |  |
| Fruits and vegetables | 0.71 | 5.79 | 169.90 |  |  |  |
| Processed foods | 1.48 | 12.04 | 113.79 |  |  |  |
| Other food at home | 0.37 | 3.05 | 115.41 |  |  |  |
| Nonalcoholic beverages | 0.47 | 3.85 | 142.08 |  |  |  |
| Food away from home | 5.40 | 44.02 | 104.21 |  |  |  |
| Alcoholic beverages | 0.86 | 7.01 | 116.68 |  |  |  |
| PEG Total |  | 100.00 |  |  |  |  |
2. Shelter and Utilities |  | 33.38 |  |  | 101.96 |  | 105.04 | 107.10
| Shelter | 29.66 | 88.85 | 90.13 |  | 105.67 |  |
| Energy utilities | 3.04 | 9.11 | 212.43 |  | 100.00 |  |
| Water and other public services | 0.68 | 2.04 | 118.15 |  | 100.00 |  |
| PEG Total |  | 100.00 |  |  |  |  |
3. Household Furnishings and Supplies |  | 6.05 |  |  | 105.32 |  | 134.18 | 141.32
| Household operations | 1.52 | 25.20 | 102.92 |  | 100.00 |  |
| Housekeeping supplies | 1.05 | 17.31 | 103.97 |  | 145.69 |  |
| Textiles and area rugs | 0.29 | 4.76 | 102.25 |  | 145.69 |  |
| Furniture | 1.15 | 18.94 | 104.57 |  | 145.69 |  |
| Major appliances | 0.38 | 6.24 | 110.38 |  | 145.69 |  |
| Small appliances, misc. housewares | 0.20 | 3.24 | 114.16 |  | 145.69 |  |
| Misc. household equipment | 1.47 | 24.30 | 107.47 |  | 145.69 |  |
| PEG Total |  | 100.00 |  |  |  |  |
4. Apparel and Services |  | 3.99 |  |  | 109.63 |  | 145.69 | 159.73
| Men and boys | 0.90 | 22.43 | 118.23 |  |  |  |
| Women and girls | 1.58 | 39.55 | 112.12 |  |  |  |
| Children under 2 | 0.18 | 4.60 | 90.70 |  |  |  |
| Footwear | 0.67 | 16.75 | 98.83 |  |  |  |
| Other apparel products and services | 0.67 | 16.68 | 108.24 |  |  |  |
| PEG Total |  | 100.00 |  |  |  |  |
5. Transportation |  | 16.31 |  |  | 112.30 |  | 125.94 | 141.44
| Motor vehicle costs | 8.56 | 52.47 | 102.17 |  | 145.69 |  |
| Gasoline and motor oil | 2.86 | 17.56 | 107.36 |  | 111.19 |  |
| Maintenance and repairs | 1.68 | 10.31 | 101.97 |  | 100.00 |  |
| Vehicle insurance | 1.78 | 10.91 | 135.96 |  | 100.00 |  |
| Public transportation | 1.43 | 8.75 | 165.59 |  | 100.00 |  |
| PEG Total |  | 100.00 |  |  |  |  |
6. Medical |  | 4.74 |  |  | 111.51 |  | 108.92 | 121.45
| Health insurance | 2.27 | 47.95 | 113.65 |  | 100.00 |  |
| Medical services | 1.54 | 32.53 | 118.98 |  | 100.00 |  |
| Drugs and medical supplies | 0.92 | 19.52 | 93.78 |  | 145.69 |  |
| PEG Total |  | 100.00 |  |  |  |  |
7. Recreation |  | 7.00 |  |  | 97.64 |  | 132.59 | 129.46
| Fees and admissions | 1.45 | 20.77 | 92.96 |  | 100.00 |  |
| Television, radios, etc. | 0.73 | 10.36 | 100.15 |  | 145.69 |  |
| Pets, toys, and playground equipment | 1.04 | 14.84 | 104.07 |  | 145.69 |  |
| Other entertainment supplies, etc | 2.02 | 28.81 | 101.48 |  | 145.69 |  |
| Personal care products | 0.81 | 11.62 | 86.00 |  | 145.69 |  |
| Personal care services | 0.55 | 7.90 | 88.08 |  | 100.00 |  |
| Reading | 0.40 | 5.70 | 110.95 |  | 145.69 |  |
| PEG Total |  | 100.00 |  |  |  |  |
8. Education and Communication |  | 4.04 |  |  | 100.37 |  | 105.62 | 106.01
| Education | 0.18 | 4.42 | 29.67 |  | 100.00 |  |
| Communications | 3.36 | 83.29 | 104.60 |  | 100.00 |  |
| Computers and computer services | 0.50 | 12.29 | 97.09 |  | 145.69 |  |
| PEG Total |  | 100.00 |  |  |  |  |
9. Miscellaneous |  | 12.23 |  |  | 108.78 |  | 101.71 | 110.64
| Tobacco products, etc. | 0.46 | 3.75 | 108.17 |  | 145.69 |  |
| Miscellaneous | 1.82 | 14.89 | 156.88 |  | 100.00 |  |
| Personal insurance and pensions | 9.95 | 81.36 | 100.00 |  | 100.00 |  |
| PEG Total |  | 100.00 |  |  |  |  |
Overall Price Index | MEG Total | 100.00 |  |  | 106.64 |  |  | 126.84
Plus Adjustment Factor |  |  |  |  | 7.00 |  |  | 9.00
Index Plus Adjustment Factor |  |  |  |  | 113.64 |  |  | 135.84
* Except for rental data and indexes set at 100, all data area from the University of Alaska Fairbanks, March 2003. Rental data are from Alaska Department of Labor and Workforce Development, 2002. Indexes set to 100 assume costs in Kodiak are equal to those in Anchorage.

Appendix 6.—2003 Final Living-Cost Results for the Pacific COLA Areas
Major expenditure group (MEG) | Primary expenditure group (PEG) | MEG weight (percent) | PEG weight (percent) | PEG index | MEG index
Honolulu County, Hawaii
1. Food |  | 12.47 |  |  | 122.24
| Cereals and bakery products | 0.93 | 7.45 | 149.58 |
| Meats, poultry, fish, and eggs | 1.51 | 12.13 | 112.97 |
| Dairy products | 0.69 | 5.54 | 127.68 |
| Fruits and vegetables | 0.76 | 6.12 | 125.39 |
| Processed foods | 1.54 | 12.37 | 159.28 |
| Other food at home | 0.38 | 3.07 | 131.16 |
| Nonalcoholic beverages | 0.46 | 3.71 | 138.17 |
| Food away from home | 5.42 | 43.48 | 108.75 |
| Alcoholic beverages | 0.76 | 6.13 | 106.06 |
| PEG Total |  | 100.00 |
2. Shelter and Utilities |  | 35.37 |  |  | 138.17
| Shelter | 31.48 | 89.01 | 126.30 |
| Energy utilities | 3.17 | 8.97 | 267.67 |
| Water and other public services | 0.72 | 2.02 | 86.36 |
| PEG Total |  | 100.00 |  |
3. Household Furnishings and Supplies |  | 6.05 |  |  | 104.33
| Household operations | 1.48 | 24.52 | 92.92 |
| Housekeeping supplies | 1.31 | 21.61 | 109.88 |
| Textiles and area rugs | 0.33 | 5.52 | 102.31 |
| Furniture | 1.07 | 17.76 | 99.49 |
| Major appliances | 0.35 | 5.86 | 115.80 |
| Small appliances, misc. housewares | 0.25 | 4.06 | 111.88 |
| Misc. household equipment | 1.25 | 20.66 | 112.04 |
| PEG Total |  | 100.00 |  |
4. Apparel and Services |  | 3.75 |  |  | 122.55
| Men and boys | 0.84 | 22.51 | 112.36 |
| Women and girls | 1.44 | 38.33 | 122.50 |
| Children under 2 | 0.19 | 5.18 | 119.50 |
| Footwear | 0.72 | 19.08 | 115.42 |
| Other apparel products and services | 0.56 | 14.90 | 148.23 |
| PEG Total |  | 100.00 |  |
5. Transportation |  | 16.36 |  |  | 118.67
| Motor vehicle costs | 8.97 | 54.85 | 108.88 |
| Gasoline and motor oil | 2.75 | 16.79 | 113.73 |
| Maintenance and repairs | 1.55 | 9.50 | 117.73 |
| Vehicle insurance | 1.79 | 10.92 | 103.42 |
| Public transportation | 1.30 | 7.95 | 218.80 |
| PEG Total |  | 100.00 |  |
6. Medical |  | 4.65 |  |  | 89.90
| Health insurance | 2.38 | 51.11 | 78.47 |
| Medical services | 1.40 | 30.12 | 99.61 |
| Drugs and medical supplies | 0.87 | 18.77 | 105.46 |
| PEG Total |  | 100.00 |  |
7. Recreation |  | 5.65 |  |  | 106.91
| Fees and admissions | 1.20 | 21.27 | 99.68 |
| Television, radios, sound equipment | 0.72 | 12.69 | 105.22 |
| Pets, toys, and playground equipment | 0.86 | 15.31 | 118.33 |
| Other entertainment supplies, etc.. | 1.28 | 22.69 | 104.64 |
| Personal care products | 0.72 | 12.72 | 113.55 |
| Personal care services | 0.54 | 9.57 | 104.96 |
| Reading | 0.32 | 5.75 | 104.55 |
| PEG Total |  | 100.00 |  |
8. Education and Communication |  | 4.02 | G | F | 101.20
| Education | 0.16 | 4.02 | 156.34 |
| Communications | 3.43 | 85.35 | 98.89 |
| Computers and computer services | 0.43 | 10.64 | 98.89 |
| PEG Total |  |  |  |
9. Miscellaneous |  | 11.69 |  |  | 103.35
| Tobacco products, etc | 0.46 | 3.93 | 121.60 |
| Miscellaneous | 1.69 | 14.45 | 117.30 |
| Personal insurance and pensions | 9.54 | 81.62 | 100.00 |
| PEG Total |  | 100.00 |
Overall Price Index | MEG Total | 100.02 |  |  | 120.80
Plus Adjustment Factor |  |  |  |  | 5.00
Index Plus Adjustment Factor |  |  |  |  | 125.80
Hilo Area, Hawaii
1. Food |  | 12.47 |  |  | 118.81
| Cereals and bakery products | 0.93 | 7.45 | 151.94 |
| Meats, poultry, fish, and eggs | 1.51 | 12.13 | 116.17 |
| Dairy products | 0.69 | 5.54 | 139.48 |
| Fruits and vegetables | 0.76 | 6.12 | 122.88 |
| Processed foods | 1.54 | 12.37 | 153.22 |
| Other food at home | 0.38 | 3.07 | 126.61 |
| Nonalcoholic beverages | 0.46 | 3.71 | 139.16 |
| Food away from home | 5.42 | 43.48 | 101.15 |
| Alcoholic beverages | 0.76 | 6.13 | 100.53 |
| PEG Total |  | 100.00 |  |
2. Shelter and Utilities |  | 35.37 |  |  | 102.98
| Shelter | 31.48 | 89.01 | 76.00 |
| Energy utilities | 3.17 | 8.97 | 382.07 |
| Water and other public services | 0.72 | 2.02 | 52.84 |
| PEG Total |  | 100.00 |  |
3. Household Furnishings and Supplies |  | 6.05 |  |  | 105.51
| Household operations | 1.48 | 24.52 | 82.82 |
| Housekeeping supplies | 1.31 | 21.61 | 122.31 |
| Textiles and area rugs | 0.33 | 5.52 | 111.00 |
| Furniture | 1.07 | 17.76 | 99.49 |
| Major appliances | 0.35 | 5.86 | 126.70 |
| Small appliances, misc. housewares | 0.25 | 4.06 | 112.22 |
| Misc. household equipment | 1.25 | 20.66 | 111.26 |
| PEG Total |  | 100.00 |  |
4. Apparel and Services |  | 3.75 |  |  | 114.01
| Men and boys | 0.84 | 22.51 | 113.80 |
| Women and girls | 1.44 | 38.33 | 102.27 |
| Children under 2 | 0.19 | 5.18 | 119.15 |
| Footwear | 0.72 | 19.08 | 109.63 |
| Other apparel products and services | 0.56 | 14.90 | 148.37 |
| PEG Total |  | 100.00 |  |
5. Transportation |  | 16.36 |  |  | 117.70
| Motor vehicle costs | 8.97 | 54.85 | 100.16 |
| Gasoline and motor oil | 2.75 | 16.79 | 118.55 |
| Maintenance and repairs | 1.55 | 9.50 | 98.96 |
| Vehicle insurance | 1.79 | 10.92 | 103.83 |
| Public transportation | 1.30 | 7.95 | 278.48 |
| PEG Total |  | 100.00 |  |
6. Medical |  | 4.65 |  |  | 86.45
| Health insurance | 2.38 | 51.11 | 77.33 |
| Medical services | 1.40 | 30.12 | 92.57 |
| Drugs and medical supplies | 0.87 | 18.77 | 101.45 |
| PEG Total |  | 100.00 |  |
7. Recreation |  | 5.65 |  |  | 101.09
| Fees and admissions | 1.20 | 21.27 | 83.76 |
| Television, radios, sound equipment | 0.72 | 12.69 | 110.58 |
| Pets, toys, and playground equipment | 0.86 | 15.31 | 117.57 |
| Other entertainment supplies, etc. | 1.28 | 22.69 | 104.90 |
| Personal care products | 0.72 | 12.72 | 113.21 |
| Personal care services | 0.54 | 9.57 | 78.16 |
| Reading | 0.32 | 5.75 | 96.69 |
| PEG Total |  | 100.00 |  |
8. Education and Communication | 4.02 | G | F |  | 100.20
| Education | 0.16 | 4.02 | 51.82 |
| Communications | 3.43 | 85.35 | 102.64 |
| Computers and computer services | 0.43 | 10.64 | 98.89 |
| PEG Total |  |  |  |
9. Miscellaneous |  | 11.69 |  |  | 102.34
| Tobacco products, etc. | 0.46 | 3.93 | 127.28 |
| Miscellaneous | 1.69 | 14.45 | 108.81 |
| Personal insurance and pensions | 9.54 | 81.62 | 100.00 |
| PEG Total |  | 100.00 |  |
Kailua Kona/Waimea Area, Hawaii
1. Food |  | 12.47 |  |  | 124.64
| Cereals and bakery products | 0.93 | 7.45 | 161.45 |
| Meats, poultry, fish, and eggs | 1.51 | 12.13 | 107.87 |
| Dairy products | 0.69 | 5.54 | 140.79 |
| Fruits and vegetables | 0.76 | 6.12 | 120.03 |
| Processed foods | 1.54 | 12.37 | 159.15 |
| Other food at home | 0.38 | 3.07 | 135.27 |
| Nonalcoholic beverages | 0.46 | 3.71 | 133.47 |
| Food away from home | 5.42 | 43.48 | 112.69 |
| Alcoholic beverages | 0.76 | 6.13 | 107.62 |
| PEG Total |  | 100.00 |  |
2. Shelter and Utilities |  | 35.37 |  |  | 126.22
| Shelter | 31.48 | 89.01 | 102.11 |
| Energy utilities | 3.17 | 8.97 | 382.07 |
| Water and other public services | 0.72 | 2.02 | 52.84 |
| PEG Total |  | 100.00 |  |
3. Household Furnishings and Supplies |  | 6.05% |  |  | 102.21
| Household operations | 1.48 | 24.52 | 86.47 |
| Housekeeping supplies | 1.31 | 21.61 | 117.27 |
| Textiles and area rugs | 0.33 | 5.52 | 111.71 |
| Furniture | 1.07 | 17.76 | 99.49 |
| Major appliances | 0.35 | 5.86 | 120.57 |
| Small appliances, misc. housewares | 0.25 | 4.06 | 108.56 |
| Misc. household equipment | 1.25 | 20.66 | 98.46 |
| PEG Total |  | 100.00 |  |
4. Apparel and Services |  | 3.75 | v | 125.99 |
| Men and boys | 0.84 | 22.51 | 122.02 |
| Women and girls | 1.44 | 38.33 | 102.07 |
| Children under 2 | 0.19 | 5.18 | 110.07 |
| Footwear | 0.72 | 19.08 | 108.42 |
| Other apparel products and services | 0.56 | 14.90 | 221.51 |
| PEG Total |  | 100.00 |  |
5. Transportation |  | 16.36 |  |  | 118.67
| Motor vehicle costs | 8.97 | 54.85 | 101.61 |
| Gasoline and motor oil | 2.75 | 16.79 | 128.62 |
| Maintenance and repairs | 1.55 | 9.50 | 108.29 |
| Vehicle insurance | 1.79 | 10.92 | 103.83 |
| Public transportation | 1.30 | 7.95 | 248.22 |
| PEG Total |  | 100.00 |  |
6. Medical |  | 4.65 |  |  | 94.43
| Health insurance | 2.38 | 51.11 | 77.33 |
| Medical services | 1.40 | 30.12 | 120.50 |
| Drugs and medical supplies | 0.87 | 18.77 | 99.18 |
| PEG Total |  | 100.00 |  |
7. Recreation |  | 5.65 |  |  | 102.99
| Fees and admissions | 1.20 | 21.27 | 98.36 |
| Television, radios, sound equipment | 0.72 | 12.69 | 103.98 |
| Pets, toys, and playground equipment | 0.86 | 15.31 | 131.78 |
| Other entertainment supplies, etc. | 1.28 | 22.69 | 97.49 |
| Personal care products | 0.72 | 12.72 | 110.88 |
| Personal care services | 0.54 | 9.57 | 73.11 |
| Reading | 0.32 | 5.75 | 95.25 |
| PEG Total |  | 100.00 |  |
8. Education and Communication |  | 4.02 | G | F | 102.25
| Education | 0.16 | 4.02 | 106.65 |
| Communications | 3.43 | 85.35 | 102.46 |
| Computers and computer services | 0.43 | 10.64 | 98.89 |
| PEG Total |  |  |  |
9. Miscellaneous |  | 11.69 |  |  | 104.57
| Tobacco products, etc. | 0.46 | 3.93 | 120.60 |
| Miscellaneous | 1.69 | 14.45 | 126.05 |
| Personal insurance and pensions | 9.54 | 81.62 | 100.00 |
| PEG Total |  | 100.00 |  |

Major expenditure group (MEG) | Primary expenditure group (PEG) | Hilo area indexes (percent) | Kona/Waimea area indexes (percent) | Hawaii county weighted index
Hawaii County, Hawaii
Employment Weights |  | 66.7 | 33.3 |
1. Food |  | 118.81 | 124.64 | 120.75
| Cereals and bakery products | 151.94 | 161.45 | 155.11
| Meats, poultry, fish, and eggs | 116.17 | 107.87 | 113.41
| Dairy products | 139.48 | 140.79 | 139.91
| Fruits and vegetables | 122.88 | 120.03 | 121.93
| Processed foods | 153.22 | 159.15 | 155.19
| Other food at home | 126.61 | 135.27 | 129.50
| Nonalcoholic beverages | 139.16 | 133.47 | 137.26
| Food away from home | 101.15 | 112.69 | 104.99
| Alcoholic beverages | 100.53 | 107.62 | 102.89
2. Shelter and Utilities |  | 102.98 | 126.22 | 110.71
| Shelter | 76.00 | 102.11 | 84.69
| Energy utilities | 382.07 | 382.07 | 382.07
| Water and other public services | 52.84 | 52.84 | 52.84
3. Household Furnishings and Supplies |  | 105.51 | 102.21 | 104.41
| Household operations | 82.82 | 86.47 | 84.04
| Housekeeping supplies | 122.31 | 117.27 | 120.63
| Textiles and area rugs | 111.00 | 111.71 | 111.24
| Furniture | 99.49 | 99.49 | 99.49
| Major appliances | 126.70 | 120.57 | 124.66
| Small appliances, misc. housewares | 112.22 | 108.56 | 111.00
| Misc. household equipment | 111.26 | 98.46 | 107.00
4. Apparel and Services |  | 114.01 | 125.99 | 118.00
| Men and boys | 113.80 | 122.02 | 116.53
| Women and girls | 102.27 | 102.07 | 102.20
| Children under 2 | 119.15 | 110.07 | 116.12
| Footwear | 109.63 | 108.42 | 109.23
| Other apparel products and services | 148.37 | 221.51 | 172.72
5. Transportation |  | 117.70 | 118.67 | 118.02
| Motor vehicle costs | 100.16 | 101.61 | 100.64
| Gasoline and motor oil | 118.55 | 128.62 | 121.90
| Maintenance and repairs | 98.96 | 108.29 | 102.07
| Vehicle insurance | 103.83 | 103.83 | 103.83
| Public transportation | 278.48 | 248.22 | 268.41
6. Medical |  | 86.45 | 94.43 | 89.11
| Health insurance | 77.33 | 77.33 | 77.33
| Medical services | 92.57 | 120.50 | 101.87
| Drugs and medical supplies | 101.45 | 99.18 | 100.69
7. Recreation |  | 101.09 | 102.99 | 101.72
| Fees and admissions | 83.76 | 98.36 | 88.62
| Television, radios, sound equipment | 110.58 | 103.98 | 108.38
| Pets, toys, and playground equipment | 117.57 | 131.78 | 122.30
| Other entertainment supplies, etc | 104.90 | 97.49 | 102.43
| Personal care products | 113.21 | 110.88 | 112.43
| Personal care services | 78.16 | 73.11 | 76.48
| Reading | 96.69 | 95.25 | 96.21
8. Education and Communication |  | 100.20 | 102.25 | 100.88
| Education | 51.82 | 106.65 | 70.08
| Communications | 102.64 | 102.46 | 102.58
| Computers and computer services | 98.89 | 98.89 | 98.89
9. Miscellaneous |  | 102.34 | 104.57 | 103.09
| Tobacco products, etc | 127.28 | 120.60 | 125.05
| Miscellaneous | 108.81 | 126.05 | 114.55
| Personal insurance and pensions | 100.00 | 100.00 | 100.00
Overall Price Index |  |  |  | 110.25
Plus Adjustment Factor |  |  |  | 7.00
Index Plus Adjustment Factor |  |  |  | 117.25

Major expenditure group (MEG) | Primary expenditure group (PEG) | MEG weight (percent) | PEG weight (percent) | PEG index | MEG index
Kauai County
1. Food |  | 12.47 |  |  | 127.66
| Cereals and bakery products | 0.93 | 7.45 | 162.92 |
| Meats, poultry, fish, and eggs | 1.51 | 12.13 | 116.75 |
| Dairy products | 0.69 | 5.54 | 163.44 |
| Fruits and vegetables | 0.76 | 6.12 | 139.47 |
| Processed foods | 1.54 | 12.37 | 155.96 |
| Other food at home | 0.38 | 3.07 | 130.62 |
| Nonalcoholic beverages | 0.46 | 3.71 | 146.04 |
| Food away from home | 5.42 | 43.48 | 110.18 |
| Alcoholic beverages | 0.76 | 6.13 | 116.57 |
| PEG Total |  | 100.00 |  |
2. Shelter and Utilities |  | 35.37 |  |  | 132.98
| Shelter | 31.48 | 89.01 | 108.84 |
| Energy utilities | 3.17 | 8.97 | 391.70 |
| Water and other public services | 0.72 | 2.02 | 48.30 |
| PEG Total |  | 100.00 |  |
3. Household Furnishings and Supplies |  | 6.05 |  |  | 104.93
| Household operations | 1.48 | 24.52 | 83.39 |
| Housekeeping supplies | 1.31 | 21.61 | 124.86 |
| Textiles and area rugs | 0.33 | 5.52 | 102.31 |
| Furniture | 1.07 | 17.76 | 99.49 |
| Major appliances | 0.35 | 5.86 | 119.73 |
| Small appliances, misc. housewares | 0.25 | 4.06 | 116.04 |
| Misc. household equipment | 1.25 | 20.66 | 108.65 |
| PEG Total |  | 100.00 |  |
4. Apparel and Services |  | 3.75 |  |  | 127.09
| Men and boys | 0.84 | 22.51 | 107.91 |
| Women and girls | 1.44 | 38.33 | 110.27 |
| Children under 2 | 0.19 | 5.18 | 121.60 |
| Footwear | 0.72 | 19.08 | 109.41 |
| Other apparel products and services | 0.56 | 14.90 | 223.87 |
| PEG Total |  | 100.00 |  |
5. Transportation |  | 16.36 |  |  | 121.37
| Motor vehicle costs | 8.97 | 54.85 | 108.56 |
| Gasoline and motor oil | 2.75 | 16.79 | 126.75 |
| Maintenance and repairs | 1.55 | 9.50 | 111.57 |
| Vehicle insurance | 1.79 | 10.92 | 83.83 |
| Public transportation | 1.30 | 7.95 | 261.81 |
| PEG Total |  | 100.00 |  |
6. Medical |  | 4.65 |  |  | 90.77
| Health insurance | 2.38 | 51.11 | 78.32 |
| Medical services | 1.40 | 30.12 | 99.65 |
| Drugs and medical supplies | 0.87 | 18.77 | 110.40 |
| PEG Total |  | 100.00 |  |
7. Recreation |  | 5.65 |  |  | 109.90
| Fees and admissions | 1.20 | 21.27 | 104.33 |
| Television, radios, sound equipment | 0.72 | 12.69 | 109.71 |
| Pets, toys, and playground equipment | 0.86 | 15.31 | 118.40 |
| Other entertainment supplies, etc | 1.28 | 22.69 | 102.74 |
| Personal care products | 0.72 | 12.72 | 121.58 |
| Personal care services | 0.54 | 9.57 | 94.99 |
| Reading | 0.32 | 5.75 | 135.52 |
| PEG Total |  | 100.00 |  |
8. Education and Communication |  | 4.02 | G | F | 101.43
| Education | 0.16 | 4.02 | 80.64 |
| Communications | 3.43 | 85.35 | 102.73 |
| Computers and computer services | 0.43 | 10.64 | 98.89 |
| PEG Total |  |  |  |
9. Miscellaneous |  | 11.69 |  |  | 104.46
| Tobacco products, etc | 0.46 | 3.93 | 127.28 |
| Miscellaneous | 1.69 | 14.45 | 123.45 |
| Personal insurance and pensions | 9.54 | 81.62 | 100.00 |
| PEG Total |  | 100.00 |  |
Overall Price Index | MEG Total | 100.02 |  |  | 120.63
Plus Adjustment Factor |  |  |  |  | 7.00
Index Plus Adjustment Factor |  |  |  |  | 127.63
Maui County, Hawaii
1. Food |  | 12.47 |  |  | 134.08
| Cereals and bakery products | 0.93 | 7.45 | 168.84 |
| Meats, poultry, fish, and eggs | 1.51 | 12.13 | 131.51 |
| Dairy products | 0.69 | 5.54 | 134.00 |
| Fruits and vegetables | 0.76 | 6.12 | 140.61 |
| Processed foods | 1.54 | 12.37 | 166.13 |
| Other food at home | 0.38 | 3.07 | 134.66 |
| Nonalcoholic beverages | 0.46 | 3.71 | 137.96 |
| Food away from home | 5.42 | 43.48 | 120.67 |
| Alcoholic beverages | 0.76 | 6.13 | 118.23 |
| PEG Total |  | 100.00 |  |
2. Shelter and Utilities |  | 35.37 |  |  | 139.89
| Shelter | 31.48 | 89.01 | 118.58 |
| Energy utilities | 3.17 | 8.97 | 363.28 |
| Water and other public services | 0.72 | 2.02 | 87.46 |
| PEG Total |  | 100.00 |  |
3. Household Furnishings and Supplies |  | 6.05 |  |  | 106.13
| Household operations | 1.48 | 24.52 | 92.79 |
| Housekeeping supplies | 1.31 | 21.61 | 123.00 |
| Textiles and area rugs | 0.33 | 5.52 | 102.31 |
| Furniture | 1.07 | 17.76 | 99.49 |
| Major appliances | 0.35 | 5.86 | 115.55 |
| Small appliances, misc. housewares | 0.25 | 4.06 | 111.79 |
| Misc. household equipment | 1.25 | 20.66 | 107.24 |
| PEG Total |  | 100.00 |  |
4. Apparel and Services |  | 3.75 |  |  | 125.84
| Men and boys | 0.84 | 22.51 | 125.02 |
| Women and girls | 1.44 | 38.33 | 114.10 |
| Children under 2 | 0.19 | 5.18 | 116.89 |
| Footwear | 0.72 | 19.08 | 115.95 |
| Other apparel products and services | 0.56 | 14.90 | 173.03 |
| PEG Total |  | 100.00 |  |
5. Transportation |  | 16.36 |  |  | 125.90
| Motor vehicle costs | 8.97 | 54.85 | 114.93 |
| Gasoline and motor oil | 2.75 | 16.79 | 133.65 |
| Maintenance and repairs | 1.55 | 9.50 | 101.69 |
| Vehicle insurance | 1.79 | 10.92 | 99.63 |
| Public transportation | 1.30 | 7.95 | 250.37 |
| PEG Total |  | 100.00 |  |
6. Medical |  | 4.65 |  |  | 95.93
| Health insurance | 2.38 | 51.11 | 78.85 |
| Medical services | 1.40 | 30.12 | 116.19 |
| Drugs and medical supplies | 0.87 | 18.77 | 109.95 |
| PEG Total |  | 100.00 |  |
7. Recreation |  | 5.65 |  |  | 106.87
| Fees and admissions | 1.20 | 21.27 | 95.25 |
| Television, radios, sound equipment | 0.72 | 12.69 | 109.47 |
| Pets, toys, and playground equipment | 0.86 | 15.31 | 130.22 |
| Other entertainment supplies, etc | 1.28 | 22.69 | 98.62 |
| Personal care products | 0.72 | 12.72 | 120.70 |
| Personal care services | 0.54 | 9.57 | 98.52 |
| Reading | 0.32 | 5.75 | 97.78 |
| PEG Total |  | 100.00 |  |
8. Education and Communication |  | 4.02 | G | F | 101.31
| Education | 0.16 | 4.02 | 89.53 |
| Communications | 3.43 | 85.35 | 102.17 |
| Computers and computer services | 0.43 | 10.64 | 98.89 |
| PEG Total |  | 100.00 |  |
9. Miscellaneous |  | 11.69 |  |  | 102.64
| Tobacco products, etc | 0.46 | 3.93 | 134.73 |
| Miscellaneous | 1.69 | 14.45 | 108.83 |
| Personal insurance and pensions | 9.54 | 81.62 | 100.00 |
| PEG Total |  | 100.00 |  |
Overall Price Index | MEG Total | 100.02 |  |  | 124.50
Plus Adjustment Factor |  |  |  |  | 7.00
Index Plus Adjustment Factor |  |  |  |  | 131.50
Guam and the Northern Mariana Islands
1. Food |  | 12.47 |  |  | 116.75
| Cereals and bakery products | 0.93 | 7.45 | 139.65 |
| Meats, poultry, fish, and eggs | 1.51 | 12.13 | 89.24 |
| Dairy products | 0.69 | 5.54 | 165.86 |
| Fruits and vegetables | 0.76 | 6.12 | 101.18 |
| Processed foods | 1.54 | 12.37 | 152.42 |
| Other food at home | 0.38 | 3.07 | 133.74 |
| Nonalcoholic beverages | 0.46 | 3.71 | 140.37 |
| Food away from home | 5.42 | 43.48 | 105.43 |
| Alcoholic beverages | 0.76 | 6.13 | 100.03 |
| PEG Total |  | 100.00 |  |
2. Shelter and Utilities |  | 35.37 |  |  | 111.49
| Shelter | 31.48 | 89.01 | 91.21 |
| Energy utilities | 3.17 | 8.97 | 316.64 |
| Water and other public services | 0.72 | 2.02 | 94.73 |
| PEG Total |  | 100.00 |  |
3. Household Furnishings and Supplies |  | 6.05 |  |  | 113.30
| Household operations | 1.48 | 24.52 | 61.20 |
| Housekeeping supplies | 1.31 | 21.61 | 120.72 |
| Textiles and area rugs | 0.33 | 5.52 | 90.66 |
| Furniture | 1.07 | 17.76 | 98.07 |
| Major appliances | 0.35 | 5.86 | 175.35 |
| Small appliances, misc. housewares | 0.25 | 4.06 | 116.30 |
| Misc. household equipment | 1.25 | 20.66 | 168.30 |
| PEG Total |  | 100.00 |  |
4. Apparel and Services |  | 3.75 |  |  | 119.20
| Men and boys | 0.84 | 22.51 | 121.44 |
| Women and girls | 1.44 | 38.33 | 103.06 |
| Children under 2 | 0.19 | 5.18 | 129.68 |
| Footwear | 0.72 | 19.08 | 113.80 |
| Other apparel products and services | 0.56 | 14.90 | 160.57 |
| PEG Total |  | 100.00 |  |
5. Transportation |  | 16.36 |  |  | 150.53
| Motor vehicle costs | 8.97 | 54.85 | 113.75 |
| Gasoline and motor oil | 2.75 | 16.79 | 122.00 |
| Maintenance and repairs | 1.55 | 9.50 | 89.06 |
| Vehicle insurance | 1.79 | 10.92 | 147.39 |
| Public transportation | 1.30 | 7.95 | 542.50 |
| PEG Total |  | 100.00 |  |
6. Medical |  | 4.65 |  |  | 99.47
| Health insurance | 2.38 | 51.11 | 97.04 |
| Medical services | 1.40 | 30.12 | 96.52 |
| Drugs and medical supplies | 0.87 | 18.77 | 110.82 |
| PEG Total |  | 100.00 |  |
7. Recreation |  | 5.65 |  |  | 108.24
| Fees and admissions | 1.20 | 21.27 | 79.65 |
| Television, radios, sound equipment | 0.72 | 12.69 | 123.99 |
| Pets, toys, and playground equipment | 0.86 | 15.31 | 124.92 |
| Other entertainment supplies, etc | 1.28 | 22.69 | 111.01 |
| Personal care products | 0.72 | 12.72 | 135.23 |
| Personal care services | 0.54 | 9.57 | 78.87 |
| Reading | 0.32 | 5.75 | 113.10 |
| PEG Total |  | 100.00 |  |
8. Education and Communication |  | 4.02 | G | F | 137.47
| Education | 0.16 | 4.02 | 153.41 |
| Communications | 3.43 | 85.35 | 140.84 |
| Computers and computer services | 0.43 | 10.64 | 104.39 |
| PEG Total |  | 100.00 |  |
9. Miscellaneous |  | 11.69 |  |  | 104.39
| Tobacco products, etc | 0.46 | 3.93 | 85.63 |
| Miscellaneous | 1.69 | 14.45 | 134.31 |
| Personal insurance and pensions | 9.54 | 81.62 | 100.00 |
| PEG Total |  | 100.00 |  |
Overall Price Index | MEG Total | 100.02 |  |  | 118.40
Plus Adjustment Factor |  |  |  |  | 9.00
Index Plus Adjustment Factor |  |  |  |  | 127.40

[FR Doc. 06-6623 Filed 8-1-06; 8:45 am]

BILLING CODE 6325-39-P